INTERNATIONAL TRADE COMMISSION

[Investigation No. 337-TA-920]

Certain Integrated Circuits and Products Containing the Same; Commission Decision Not To Review an Initial Determination Terminating the Investigation in Its Entirety Based on a Settlement Agreement; Termination of the Investigation

AGENCY: U.S. International Trade Commission.

ACTION: Notice.

SUMMARY: Notice is hereby given that the U.S. International Trade Commission has determined not to review the presiding administrative law judge's (“ALJ”) initial determination (“ID”) (Order No. 17) terminating the investigation in its entirety based on a settlement agreement.

FOR FURTHER INFORMATION CONTACT: Robert Needham, Office of the General Counsel, U.S. International Trade Commission, 500 E Street SW., Washington, DC 20436, telephone (202) 708-5468. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server (http://www.usitc.gov). The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on July 2, 2014, based on a complaint filed by Freescale Semiconductor, Inc. (“Freescale”) of Austin, Texas. 79 FR 37770-71. The complaint alleges violations of section 337 of the Tariff Act of 1930, as amended, 19 U.S.C. 1337, in the importation into the United States, the sale for importation, and the sale within the United States after importation of certain integrated circuits and products containing the same through the infringement of certain claims of U.S. Patent Nos. 5,962,926; 7,158,432; 7,230,505; 7,518,947; 7,626,276; and 7,746,716. Id. at 37770. The Commission's notice of investigation named as respondents MediaTek Inc. of Hsinchu City, Taiwan and MediaTek USA Inc. of San Jose, California (together, “MediaTek”); Acer Inc. of New Taipei City, Taiwan; AmTRAN Technology Co. Ltd. of New Taipei, Taiwan; AmTRAN Logistics, Inc. of Irvine, California; ASUSTek Computer Inc. of Taipei, Taiwan; ASUS Computer International, Inc. of Fremont, California; BLU Products, Inc., of Doral, Florida; Sharp Corporation of Osaka, Japan; Sharp Electronics Corporation of Mahwah, New Jersey; Sharp Electronics Manufacturing Company of America, Inc. of San Diego, California; Sony Corporation of Tokyo, Japan; Sony EMCS (Malaysia) of Penang, Malaysia; Toshiba America Information Systems, Inc. of Irvine, California; Toshiba Logistics America, Inc. of Irvine, California; TPV Display Technology (Xiamen) Co. of Fujian, China; Trend Smart America, Ltd. of Lake Forest, California; Vizio, Inc. of Irvine, California; Yamaha Corporation of Buena Park, California; Lenovo Group Ltd. of Beijing, China; Lenovo (United States) Inc. of Morrisville, North Carolina; Best Buy Co., Inc. of Richfield, Minnesota; Newegg Inc. of City of Industry, California; Buy.com Inc. d/b/a Rakuten.com Shopping of Aliso Viejo, California; Walmart Stores, Inc. of Bentonville, Arkansas; Amazon.com, Inc. of Seattle, Washington; B&H Foto & Electronics Corp. of New York, New York; and Costco Wholesale Corporation of Issaquah, Washington (collectively, “Respondents”). Id. at 37771. The Office of Unfair Import Investigations was also named as a party to the investigation. Id.

On September 29, 2014, Freescale and MediaTek filed a joint motion to terminate the entire investigation with prejudice based on a settlement agreement covering all Respondents. On October 3, 2014, Freescale and MediaTek filed a joint motion for leave to file a corrected version of its motion based on comments received from the ALJ's attorney-advisor and the Commission Investigative Attorney (“IA”).

On October 7, 2014, the IA filed a response to the corrected motion, and contended that the motion should be granted-in-part. The IA stated that the moving parties' request to have the investigation terminated “with prejudice” should be denied, because the Commission has previously declined to terminate investigations with prejudice. The IA contended that the remainder of the motion complied with the Commission's rules, so the investigation should be terminated in its entirety without prejudice.

On October 16, 2014, the ALJ issued the subject ID, granting the moving parties' motion to file a corrected motion and granting-in-part the moving parties' corrected motion. The ALJ declined to terminate the investigation “with prejudice.” The ALJ found that the remainder of the motion complied with the Commission's rules. Specifically, the ALJ found that the moving parties had submitted their settlement agreement, and had stated that there were no other agreements, written or oral, express or implied, between Freescale and Respondents concerning the subject matter of the investigation, and that the termination of the investigation does not impose any undue burden on the public health and welfare, competitive conditions in the United States economy, the production of like or directly competitive articles in the United States, and United States consumers. The ALJ thus terminated the investigation in its entirety without prejudice based on the settlement agreement. No petitions for review of the ID were filed.

The Commission has determined not to review the subject ID.

The authority for the Commission's determination is contained in section 337 of the Tariff Act of 1930, as amended (19 U.S.C. 1337), and in Part 210 of the Commission's Rules of Practice and Procedure (19 CFR part 210).

By order of the Commission.
Issued: November 14, 2014.
Lisa R. Barton,
Secretary to the Commission.

[FR Doc. 2014-27458 Filed 11-19-14; 8:45 am]

BILLING CODE 7020-02-P